DEPARTMENT OF HOMELAND SECURITY

Federal Emergency Management Agency

44 CFR Part 64

[Docket ID FEMA-2015-0001; Internal Agency Docket No. FEMA-8385]

Suspension of Community Eligibility

AGENCY: Federal Emergency Management Agency, DHS.

ACTION: Final rule; withdrawal.

SUMMARY: The Federal Emergency Management Agency (FEMA) is withdrawing a duplicate final rule which it published inadvertently on June 23, 2015.

DATES: This withdrawal is effective August 25, 2015.

FOR FURTHER INFORMATION CONTACT: Bret Gates, Federal Insurance and Mitigation Administration, Federal Emergency Management Agency, 500 C Street SW., Washington, DC 20472, (202) 646-4133.

SUPPLEMENTARY INFORMATION: On June 23, 2015, FEMA published a final rule, Suspension of Community Eligibility (Docket ID FEMA-2015-0001; Internal Docket No. FEMA-8385) (80 FR 35851), that had previously been published on June 4, 2015 (80 FR 31847). The June 23, 2015 final rule publication was in error, and FEMA withdraws publication of the duplicate rule. This error does not alter the effective dates of the final rule that was published on June 4, 2015.

Dated: July 29, 2015.
Roy Wright,
Deputy Associate Administrator, Federal Insurance and Mitigation Administration, Federal Emergency Management Agency, Department of Homeland Security.

[FR Doc. 2015-20893 Filed 8-24-15; 8:45 am]

BILLING CODE 9110-12-P